DEPARTMENT OF THE INTERIOR

Bureau of Ocean Energy Management

[Docket No. BOEM-2023-0045]

Gulf of Mexico, Outer Continental Shelf, Oil and Gas Lease Sale 261

AGENCY: Bureau of Ocean Energy Management (BOEM), Interior.

ACTION: Notice of availability of a record of decision.

SUMMARY: BOEM announces the availability of the Record of Decision (ROD) for Gulf of Mexico (GOM) Outer Continental Shelf (OCS) Oil and Gas Lease Sale 261 (GOM Lease Sale 261). This ROD identifies the selected alternative for GOM Lease Sale 261, which is analyzed in the Gulf of Mexico OCS Oil and Gas Lease Sales 259 and 261: Final Supplemental Environmental Impact Statement (GOM Lease Sales 259 and 261 Supplemental EIS).

ADDRESSES: The ROD and associated information are available on BOEM's website at https://www.boem.gov/oil-gas-energy/leasing/lease-sale-261.

FOR FURTHER INFORMATION CONTACT: Helen Rucker, Supervisor, Environmental Assessment Section Unit 1, Office of Environment, BOEM New Orleans Office, by telephone at 504-736-2421, or by email at helen.rucker@boem.gov.

SUPPLEMENTARY INFORMATION: BOEM must hold GOM Lease Sale 261 on or before September 30, 2023, pursuant to section 50264(e) of the Inflation Reduction Act of 2022 (IRA, Pub. L. 117-169), which was signed into law on August 16, 2022. However, the IRA does not affect BOEM's discretion regarding other aspects of its normal leasing process, including decisions regarding the scope of the lease sale and the terms of the resulting leases. GOM Lease Sale 261 will provide qualified bidders the opportunity to bid on unleased blocks in the Gulf of Mexico OCS in order to explore for, develop, and produce oil and natural gas. BOEM evaluated five alternatives in the GOM Lease Sales 259 and 261 Supplemental EIS, which BOEM completed as part of its normal leasing process to inform the decision-maker on possible lease sale impacts, mitigations, and other action alternatives.

The ROD for Lease Sale 261 is the second ROD that relies on the analysis in the GOM Lease Sales 259 and 261 Supplemental EIS. BOEM reviewed new and relevant information since the GOM Lease Sales 259 and 261 Supplemental EIS was issued and verified that the GOM Lease Sales 259 and 261 Supplemental EIS adequately addresses the potential environmental effects of the proposed lease sale. There are no new circumstances, information, or changes in the proposed lease sale or its potential impacts that require supplementation of the GOM Lease Sales 259 and 261 Supplemental EIS.

After careful consideration, the U.S. Department of the Interior (Interior) decided to offer for lease a subset of the OCS blocks analyzed as Alternative D in the GOM Lease Sales 259 and 261 Supplemental EIS.

Therefore, BOEM will hold GOM Lease Sale 261 as a GOM regionwide lease sale encompassing all three planning areas, i.e., the Western Planning Area, Central Planning Area, and a small portion of the Eastern Planning Area, with the following exclusions: (1) whole and portions of blocks made unavailable for leasing by Presidential withdrawal in the September 8, 2020, Memorandum on the Withdrawal of Certain Areas of the United States Outer Continental Shelf from Leasing Disposition; (2) blocks that are adjacent to or beyond the United States Exclusive Economic Zone in the area known as the northern portion of the Eastern Gap; (3) whole and partial blocks within the boundary of the Flower Garden Banks National Marine Sanctuary as of the July 14, 2008, Memorandum on Modification of the Withdrawal of Areas of the United States Outer Continental Shelf from Leasing Disposition; (4) whole and partial blocks that were previously subject to the Topographic Features Stipulation; (5) whole and partial blocks that were previously subject to the Live Bottom (Pinnacle Trend) Stipulation; (6) whole and partial blocks that were previously subject to the Blocks South of Baldwin County, Alabama, Stipulation; (7) whole blocks that contain banks that are adjacent to blocks previously included in the Topographic Features Stipulation (currently Garden Banks 181); (8) whole and partial blocks identified as either Wind Energy Area Options (Areas A, B, C, D, E, F, G, H, J, K, L, and N) or final Wind Energy Areas (Areas I and M); ¹ (9) depth-restricted, segregated block portions (Block 299, Main Pass Area, South and East Addition); (10) whole and partial BOEM-designated Significant Sediment Resource Area blocks; and (11) whole and partial blocks between the 100-meter and 400-meter isobaths across the northern GOM on the OCS, eastward from the Mexican border with Texas and westward from the eastern edge of the Central Planning Area.

¹ https://www.boem.gov/sites/default/files/documents//Draft%20Area%20ID%20Memo%20GOM%20508.pdf.

The excluded blocks are identified by their block number in the Final Notice of Sale for GOM Lease Sale 261. The lease sale area encompasses approximately 12,395 OCS blocks covering approximately 67.3 million acres. The unleased OCS blocks that BOEM will offer for lease are listed in the document entitled “Lease Sale Area,” which is included in the Final Notice of Sale package for GOM Lease Sale 261 available on BOEM's website. See ADDRESSES caption above.

As part of the decision to hold GOM Lease Sale 261, BOEM adopted all practicable means to avoid or minimize environmental harm at the lease sale stage. In addition, any subsequent post-lease activities (e.g., exploration and development plans), which may be expected as a result of GOM Lease Sale 261, will undergo additional environmental review and may include additional project-specific mitigation measures applied as conditions of individual plan approvals. The various mitigation measures adopted for the lease sale, and those that may be applied during post-lease reviews, are summarized below.

Lease Stipulations—Because the OCS blocks that otherwise were previously subject to the Topographic Features Stipulation; Live Bottom (Pinnacle Trend) Stipulation; and Blocks South of Baldwin County, Alabama, Stipulation have all been removed from leasing under the chosen alternative, these stipulations will not be applied to any leases issued as a result of GOM Lease Sale 261. Eight lease stipulations have been adopted as lease terms where applicable, and they will be enforceable as part of the leases issued. The GOM Lease Sale 259 and 261 Supplemental EIS describes these lease stipulations, which are included in the Final Notice of Sale Package. These lease stipulations include the following: Military Areas; Evacuation; Coordination; Protected Species; United Nations Convention on the Law of the Sea Royalty Payment; Agreement between the United States of America and the United Mexican States Concerning Transboundary Hydrocarbon Reservoirs in the Gulf of Mexico; Restrictions Due to Rights-of-Use and Easements for Floating Production Facilities; and Royalties on All Produced Gas. The Final Notice of Sale package includes a document describing these stipulations in detail. See ADDRESSES caption above.

Post-Lease Measures—Appendix B of the Gulf of Mexico OCS Oil and Gas Lease Sales: 2017-2022; Gulf of Mexico Lease Sales 249, 250, 251, 252, 253, 254, 256, 257, 259, and 261—Final Multisale Environmental Impact Statement provides a list and description of standard post-lease conditions of approval that BOEM or the Bureau of Safety and Environmental Enforcement may require as a result of their plan and permit reviews for oil and gas activities in the Gulf of Mexico OCS region.

The decision to hold GOM Lease Sale 261 meets the purpose of and need for the proposed action, as identified in the GOM Lease Sales 259 and 261 Supplemental EIS, and provides for orderly resource development with protection of human, marine, and coastal environments while also ensuring that the public receives a fair market value for these resources and that free-market competition is maintained.

Authority: 42 U.S.C. 4321 et seq. (National Environmental Policy Act) and 40 CFR parts 1505 and 1506.

Elizabeth A. Klein,
Director, Bureau of Ocean Energy Management.

[FR Doc. 2023-18345 Filed 8-24-23; 8:45 am]

BILLING CODE 4340-98-P